FEDERAL RETIREMENT THRIFT INVESTMENT BOARD

Notice of Board Meeting

DATES: July 23, 2024 at 10:00 a.m. EDT.

ADDRESSES: Telephonic. Dial-in (listen only) information: Number: 1-202-599-1426, Code: 140 856 172 #; or via web: https://teams.microsoft.com/l/meetup-join/19%3ameeting_NzEzOTlkZmQtODI0ZS00ZTBhLWJhNmYtMGI1Y2M0OTUzYWYx%40thread.v2/0?context=%7b%22Tid%22%3a%223f6323b7-e3fd-4f35-b43d-1a7afae5910d%22%2c%22Oid%22%3a%221a441fb8-5318-4ad0-995b-f28a737f4128%22%7d.

FOR FURTHER INFORMATION CONTACT: Kimberly Weaver, Director, Office of External Affairs, (202) 942-1640.

SUPPLEMENTARY INFORMATION: Board Meeting Agenda.

Open Session

1. Approval of the June 25, 2024, Board Meeting Minutes

2. Monthly Reports

(a) Participant Report

(b) Legislative Report

3. Quarterly Reports

(c) Investment Review

(d) Budget Review

(e) Audit Status

4. Internal Audit Update

5. OI Annual Presentation

Closed Session

6. Information covered under 5 U.S.C. 552b (c)(9)(B) and (c)(10).

Authority: 5 U.S.C. 552b (e)(1).

Dated: July 12, 2024.
Dharmesh Vashee,
General Counsel, Federal Retirement Thrift Investment Board.

[FR Doc. 2024-15754 Filed 7-17-24; 8:45 am]

BILLING CODE P